DEPARTMENT OF AGRICULTURE

Agricultural Marketing Service

[Doc. No. AMS-FV-13-0025]

Softwood Lumber Research, Promotion, Consumer Education and Industry Information Order; Request for Extension and Revision of a Currently Approved Information Collection

AGENCY: Agricultural Marketing Service, USDA.

ACTION: Notice and request for comments.

SUMMARY: In accordance with the Paperwork Reduction Act of 1995 (44 U.S.C. Chapter 35), this document announces the Agricultural Marketing Service's (AMS) intention to request approval from the Office of Management and Budget (OMB), for an extension of and revision to the currently approved information collection Softwood Lumber Research, Promotion, Consumer Education and Industry Information Order (Order).

DATES: Comments must be received by June 24, 2013.

ADDRESSES: Interested persons are invited to submit comments concerning this notice. Comments should be submitted online at www.regulations.gov or sent to the Promotion and Economics Division, Fruit and Vegetable Program, AMS, U.S. Department of Agriculture (USDA), 1400 Independence Avenue SW., Stop 0244, Room 1406-S, Washington, DC 20250-0244, or by facsimile to (202) 205-2800. All comments should reference the document number, the date and the page number of this issue of the Federal Register. All comments received will be posted without change, including any personal information provided, online at http://www.regulations.gov and will be made available for public inspection at the above physical address during regular business hours.

FOR FURTHER INFORMATION CONTACT: Marlene Betts at the above address, by telephone at (202) 720-9915, or by email at marlene.betts@ams.usda.gov.

SUPPLEMENTARY INFORMATION: Title: Softwood Lumber Research, Promotion, Consumer Education and Industry Information Order.

OMB Number: 0581-0264.

Expiration Date of Approval: November 30, 2013.

Type of Request: Extension and revision of a currently approved information collection.

Abstract: The Order was created in 2011 to help strengthen the position of softwood lumber in the marketplace, maintain and expand markets for softwood lumber, and develop new uses for softwood lumber within the United States. Softwood lumber is used in products like flooring, siding and framing. The Order is authorized under the Commodity Promotion, Research, and Information Act of 1996 (1996 Act) (7 U.S.C. 7411-7425).

The program is administered by the Softwood Lumber Board (Board) appointed by the Secretary of Agriculture and financed by a mandatory assessment on domestic manufacturers and importers. The assessment rate is $0.35 per thousand board feet of softwood lumber shipped within or imported to the United States. Entities that domestically manufacture and ship or import less than 15 million board feet per fiscal year are exempt from the payment of assessments. Additionally, assessed entities do not pay assessments on the first 15 million board feet of softwood lumber shipped domestically or imported during the year. Exports from the United States are also exempt from assessments.

The information collection requirements in the request are essential to carry out the intent of the Order. The objective in carrying out this responsibility includes assuring the following: (1) Funds are collected and properly accounted for; (2) expenditures of all funds are for the purposes authorized by the 1996 Act and Order; and (3) the Board's administration of the programs conforms to USDA policy.

The Order's provisions have been carefully reviewed, and every effort has been made to minimize any unnecessary recordkeeping costs or requirements.

The forms covered under this collection require the minimum information necessary to effectively carry out the requirements of the program, and their use is necessary to fulfill the intent of the Order. Such information can be supplied without data processing equipment or outside technical expertise. In addition, there are no additional training requirements for individuals filling out reports and remitting assessments to the Board. The forms are simple, easy to understand, and place as small a burden as possible on the person required to file the information.

Collecting information quarterly coincides with normal industry business practices. The timing and frequency of collecting information are intended to meet the needs of the industry while minimizing the amount of work necessary to fill out the required reports. The requirement to keep records for two years beyond the fiscal period of their applicability is consistent with normal industry practices. In addition, the information to be included on these forms is not available from other sources because such information relates specifically to individual domestic manufacturers and importers who are subject to the provisions of the Order. Therefore, there is no practical method for collecting the required information without the use of these forms.

AMS is committed to complying with the E-Government Act, which requires Government agencies in general to provide the public the option of submitting information or transacting business electronically to the maximum extent possible.

Estimate of Burden: Public recordkeeping burden for this collection of information is estimated to average 0.416 hour per response.

Respondents: Domestic manufacturers and importers, whether subject to the Order or not.

Estimated Number of Respondents: 1,478.

Estimated Total Annual Responses: 4,495.

Estimated Number of Responses per Respondent: 3.04.

Estimated Total Annual Burden on Respondents: 1,871.

Comments are invited on: (1) Whether the proposed collection of information is necessary for the proper performance of functions of the agency, including whether the information will have practical utility; (2) the accuracy of the agency's estimate of burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Authority: 44 U.S.C. Chapter 35.

Dated: April 18, 2013.
Rex A. Barnes,
Acting Administrator.

[FR Doc. 2013-09727 Filed 4-23-13; 8:45 am]

BILLING CODE 3410-02-P